DEPARTMENT OF HEALTH AND HUMAN SERVICES

Health Care Financing Administration

[HCFA-3028-N2]

Medicare Program; Notice of the Solicitation for Proposals to Expand the Medicare Lifestyle Modification Program Demonstration; Cancellation Notice

AGENCY: Health Care Financing Administration (HCFA), HHS.

ACTION: Cancellation of notice.

SUMMARY: In the January 5, 2000 issue of the Federal Register (65 FR 495), we published a notice soliciting proposals to expand the Medicare Lifestyle Modification Program Demonstration to one additional, national multi-site cardiovascular lifestyle modification program. The original solicitation contained an inaccurate description of the intended population to be served by the proposed demonstration. We are withdrawing the request for solicitations of interest in order to correct this mistake, which may affect the types of organizations interested in participating and the composition of their applications, and expect to publish a new request at a later time with the correct description.

EFFECTIVE DATE: April 7, 2000.

FOR FURTHER INFORMATION CONTACT: Armen Thoumaian, Ph.D., (410) 786-6672.

Authority: Sections 402(a)(1)(G) and (a)(2) of the Social Security Amendments of 1967 (Public Law 90-248), as amended (42 U.S.C. 1395b-1(a)(1)(G) and (a)(2)).

(Catalog of Federal Domestic Assistance Program No. 93.779; Health Financing, Demonstrations, and Experiments)
Dated: March 31, 2000.
Nancy-Ann Min DeParle,
Administrator, Health Care Financing Administration.

[FR Doc. 00-8589 Filed 4-3-00; 4:55 pm]

BILLING CODE 4120-01-P